DEPARTMENT OF COMMERCE

Submission for OMB Review: Comment Request

The Department of Commerce will submit to the Office of Management and Budget (OMB) for clearance the following proposal for collection of information under the provisions of the Paperwork Reduction Act of 1995, Public Law 104-13.

Bureau: International Trade Administration (ITA).

Title: Advocacy Comment Card.

Agency Form Number: None.

OMB Number: 0625-0251.

Type of Request: Regular submission.

Burden: 54 hours.

Number of Respondents: 650.

Average Hours Per Response: 5 minutes.

Needs and Uses: The International Trade Administration's U.S. Commercial Service (USCS) is mandated by Congress to help U.S. businesses, particularly small- and medium-sized companies, export their products and services to global markets. As part of its mission, the USCS uses “Comment Cards” to collect feedback from the U.S. business clients it serves. The surveys request the client to evaluate the USCS on its customer service provision. The results from the surveys are used to make improvements to the agency's business processes in order to provide better and more effective export assistance to U.S. companies. The purpose of the survey is to collect feedback from U.S. businesses that receive advocacy services from the USCS. In providing these services, the USCS advocates on behalf of a U.S. company that is bidding on a project or government contract, attempting to recover payment or goods, or facing a barrier to market entry.

Affected Public: Business or other for-profit organizations.

Frequency: On occasion.

Respondents Obligation: Voluntary.

OMB Desk Officer: David Rostker, (202) 395-3897.

Copies of the above information collection can be obtained by calling or writing Diana Hynek, Departmental Paperwork Clearance Officer, (202) 482-0266, Department of Commerce, Room 6625, 14th and Constitution Avenue, NW., Washington, DC 20230 or via the Internet at dHynek@doc.gov.

Written comments and recommendations for the proposed information collection should be sent within 30 days of this publication to David Rostker, OMB Desk Officer, via the Internet David_Rostker@omb.eop.gov or Fax (202) 395-7285.

Dated: May 24, 2007.
Gwellnar Banks,
Management Analyst, Office of the Chief Information Officer.

[FR Doc. E7-10406 Filed 5-29-07; 8:45 am]

BILLING CODE 3510-FP-P